DEPARTMENT OF HOMELAND SECURITY

Bureau of Customs and Border Protection

Notice of Cancellation of Customs Broker Permit

AGENCY: Customs Service, DHS.

ACTION: General notice.

SUMMARY: Pursuant to section 641 of the Tariff Act of 1930, as amended, (19 U.S.C. 1641) and the Customs Regulations (19 CFR 111.51), the following Customs broker local permits are canceled without prejudice.

Name | Permit # | Issuing port
Masterpiece International, Ltd. | 21-02-002 | Port Arthur.
R.W. Smith and Co., Inc. | 95-2101-1 | Port Arthur.
CK Logistics, Inc. | 53-02-KT5 | Houston.
Holland Custom Brokers, Inc. | 01-17-007 | Atlanta.
International Cargo Exchange Logistics Inc. | 17-02 | Atlanta.
USF Worldwide, Inc. | 85011 | Houston.
USF Worldwide, Inc. | 99038 | Los Angeles.
Clasquin Laperriere CHB, Inc. | 00-17-001 | Atlanta.
DHL Airways, Inc. | 9174 | San Francisco.
DHL Airways, Inc. | 30-87-F11 | Seattle.
Rajendra Lal | 28-02-NZ2 | San Francisco.
Hankyu International Transport (USA), Inc. | 5200610 | Miami. | The following local permits were incorrectly cancelled for the Port of Houston:
Rulewave, Inc. | 96-2101-1 | Port Arthur.
Jeanette Larbardini CHB | 98-007 | Port Arthur.
W.R. Zanes & Co., of LA, Inc. | 96-2101-2 | Port Arthur.
XL Brokers International, Inc. | 97-003 | Port Arthur.

Dated: August 20, 2003.
Jayson P. Ahern,
Assistant Commissioner, Office of Field Operations.

[FR Doc. 03-22068 Filed 8-27-03; 8:45 am]

BILLING CODE 4820-02-P